DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are available for licensing by the Department of the Navy:

Laterally Disposed Nanostructures of Silicon on an Insulating Substrate

ADDRESSES: Requests for copies of the Patent and Patent Application cited should be directed to the Office of Patent Counsel, Space and Naval Warfare Systems Center, San Diego, Code 20012, 53510 Silvergate Ave., Room 103, San Diego, CA 92152-5765.

FOR FURTHER INFORMATION CONTACT: Mr. Peter A. Lipovsky, Space and Naval Warfare Systems Center, San Diego, Code 20012, 53510 Silvergate Ave., Room 103, San Diego, CA 92152-5765, telephone (619) 553-3824.

(Authority: 35 U.S.C. 207, 37 CFR part 404)

Dated: September 17, 2003.
E.F. McDonnell,
Major, U.S. Marine Corps, Federal Register Liaison Officer.

[FR Doc. 03-25060 Filed 10-2-03; 8:45 am]

BILLING CODE 3810-FF-P